NATIONAL AERONAUTICS AND SPACE ADMINISTRATION

[Notice 13-001]

Aerospace Safety Advisory Panel; Meeting

AGENCY: National Aeronautics and Space Administration (NASA).

ACTION: Notice of Meeting.

SUMMARY: In accordance with the Federal Advisory Committee Act, Public Law 92-463, as amended, the National Aeronautics and Space Administration announces a forthcoming meeting of the Aerospace Safety Advisory Panel.

DATES: Friday, January 25, 2013, 10:00 a.m. to 11:00 a.m. local time

ADDRESSES: Kennedy Space Center, Headquarters Building, Room 3372.

FOR FURTHER INFORMATION CONTACT: Ms. Harmony Myers, Aerospace Safety Advisory Panel Executive Director, National Aeronautics and Space Administration, Washington, DC 20546, (202) 358-1857.

SUPPLEMENTARY INFORMATION: The Aerospace Safety Advisory Panel (ASAP) will hold its First Quarterly Meeting for 2013. This discussion is pursuant to carrying out its statutory duties for which the Panel reviews, identifies, evaluates, and advises on those program activities, systems, procedures, and management activities that can contribute to program risk. Priority is given to those programs that involve the safety of human flight. The agenda will include:

• Updates on Exploration Systems Development

• Updates on the Commercial Crew Program

• Updated on the International Space Station

The meeting will be open to the public up to the seating capacity of the room. Seating will be on a first-come basis. Attendees will be required to sign a visitor's register and to comply with NASA security requirements, including the presentation of a valid picture ID, before receiving an access badge. All U.S. citizens desiring to attend the Aerospace Safety Advisory Panel meeting at the Kennedy Space Center must provide their full name, company affiliation (if applicable), driver's license number and state, citizenship, place of birth, and date of birth to the Kennedy Space Center Protective Services Office no later than close of business on January 18, 2013. All non-U.S. citizens must submit their name; current address; driver's license number and state (if applicable); citizenship; company affiliation (if applicable) to include address, telephone number, and title; place of birth; date of birth; U.S. visa information to include type, number, and expiration date; U.S. Social Security Number (if applicable); Permanent Resident card number and expiration date (if applicable); place and date of entry into the U.S.; and Passport information to include Country of issue, number, and expiration date to the Kennedy Space Center Security Office no later than close of business on January 10, 2013. If the above information is not received by the noted dates, attendees should expect a minimum delay of two (2) hours. All visitors to this meeting will be required to process in through the KSC Badging Office, Building M6-0224, located just outside of KSC Gate 3, on SR 405, Kennedy Space Center, Florida. Please provide the appropriate data, via fax at 321-867-7206, noting at the top of the page “Public Admission to the ASAP Meeting at KSC.” For security questions, please call Tina Hosch at 321-867-3183. It is imperative that the meeting be held on this date to accommodate the scheduling priorities of the key participants.

Susan M. Burch,
Acting Advisory Committee Management Officer, National Aeronautics and Space Administration.

[FR Doc. 2013-00064 Filed 1-7-13; 8:45 am]

BILLING CODE 7510-13-P